DEPARTMENT OF HEALTH AND HUMAN SERVICES

Centers for Disease Control and Prevention

Disease, Disability, and Injury Prevention and Control Special Emphasis Panel (SEP)—TS21-001, Identify and Evaluate Potential Risk Factors for Amyotrophic Lateral Sclerosis (ALS); Amended Notice of Meeting

Notice is hereby given of a change in the meeting of the Disease, Disability, and Injury Prevention and Control Special Emphasis Panel (SEP)—TS21-001, Identify and Evaluate Potential Risk Factors for Amyotrophic Lateral Sclerosis (ALS); June 10, 2021, 10:00 a.m.-5:00 p.m., EDT, in the original FRN. The web conference meeting was published in the Federal Register on February 1, 2021, Volume 86, Number 19, pages 7725-7726.

The meeting is being amended to change the meeting time and should read as follows:

Date: June 10, 2021.

Time: 8:30 a.m.-5:00 p.m., EDT.

Place: Web Conference.

The meeting is closed to the public.

FOR FURTHER INFORMATION CONTACT: Mikel Walters, Ph.D., Scientific Review Officer, National Center for Injury Prevention and Control, CDC, 4770 Buford Highway, NE, Mailstop F-63, Atlanta, Georgia 30341-3717, Telephone: (404) 639-0913, MWalters@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-08550 Filed 4-23-21; 8:45 am]

BILLING CODE 4163-18-P